FEDERAL HOUSING FINANCE BOARD

Sunshine Act Meeting Notice; Announcing an Open Meeting of the Board of Directors

Time and Date: An open meeting of the Board of Directors is scheduled to begin at 10 a.m. on Wednesday, January 25, 2006.

Place: Board Room, First Floor, Federal Housing Finance Board, 1625 Eye Street, NW., Washington, DC 20006.

Status: The meeting will be open to the public.

Matters To Be Considered at the Meeting: Reappointment to the Board of Directors of the Office of Finance.

Amendment to the Capital Structure Plan of the Federal Home Loan Bank of Atlanta.

Contact Person for More Information: Shelia Willis, Paralegal Specialist, Office of General Counsel, at 202-408-2876 or williss@fhfb.gov.

By the Federal Housing Finance Board.
Dated: January 18, 2006.
John P. Kennedy,
General Counsel.

[FR Doc. 06-614 Filed 1-19-06; 9:27 am]

BILLING CODE 6725-01-P